Title 3—

The President

Proclamation 8136 of April 30, 2007

Jewish American Heritage Month, 2007

By the President of the United States of America

A Proclamation

The faith and hard work of Jewish Americans have played an integral role in shaping the cultural fabric of America. During Jewish American Heritage Month, we celebrate the vital contributions of Jewish Americans to our Nation.

Throughout our history, Jewish Americans have contributed to the strength of our country and the preservation of our values. The talent and imagination of these citizens have helped our Nation prosper, and their efforts continue to remind us of America's gift of religious freedom and the blessings of God's steadfast love. Jewish Americans have worked to promote civil rights and build bridges of mutual understanding among the world's religions. Their deep commitment to faith and strong ties to family enrich our country and set a positive example for others.

This month is also a time to recognize the sacrifices of Jewish Americans who serve our Nation in the Armed Forces. These brave men and women are dedicated to freedom's cause, and all those who live in freedom live in their debt.

Jewish American Heritage Month is an opportunity to honor the accomplishments of Jewish-American citizens and to remember that our Nation is a melting pot of cultures. I join all Americans in celebrating the rich Jewish heritage and the many ways Jewish Americans contribute to a bright future for our country.

NOW, THEREFORE, I, GEORGE W. BUSH, President of the United States of America, by virtue of the authority vested in me by the Constitution and laws of the United States, do hereby proclaim May 2007 as Jewish American Heritage Month. I call upon all Americans to observe this month with appropriate programs and activities to honor Jewish Americans across the country.

IN WITNESS WHEREOF, I have hereunto set my hand this thirtieth day of April, in the year of our Lord two thousand seven, and of the Independence of the United States of America the two hundred and thirty-first.

[FR Doc. 07-2217

Filed 5-2-07; 8:54 am]

Billing code 3195-01-P